DEPARTMENT OF JUSTICE

Notice of Lodging of Proposed Consent Judgment Under the Comprehensive Environmental Response, Compensation and Liability Act

On April 18, 2014, the Department of Justice lodged a proposed Consent Judgment with the United States District Court for the Middle District of Pennsylvania in United States v. Chromatex, Inc., et al., Civil Action No. 91-1501.

This action involves the claim of the United States on behalf of the United States Environmental Protection Agency (“EPA”) under Section 107(a) of the Comprehensive Environmental Response, Compensation and Liability Act (“CERCLA”), 42 U.S.C. 9607(a), for payment of its unreimbursed response costs incurred on or after October 27, 1993, in response to releases and/or threatened releases of hazardous substances at the Valmont TCE Superfund Site in Hazelton, Luzerne County, Pennsylvania (“Site”). Judgment for response costs incurred prior to October 27, 1993, was previously entered against the former individual partners of the Valmont Group and Chromatex, Inc. (collectively, Defendants”) on February 9, 1994. Under the proposed Consent Judgment, Defendants agree to pay $2,225,000 to resolve the United States' claim for response costs incurred at the Site on or after October 27, 1993.

The publication of this notice opens a period for public comment on the proposed Consent Judgment. Comments should be addressed to the Assistant Attorney General, Environment and Natural Resources Division, and should refer to United States v. Chromatex, Inc., et al., Civil Action No. 91-1501, D.J. Ref. No. 90-11-3-863. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Judgment may be examined and downloaded at this Justice Department Web site: http://www.usdoj.gov/enrd/Consent_Decrees.html. We will provide a paper copy of the proposed Consent Decree and Stipulated Judgment and Permanent Injunction upon written request and payment of reproduction costs. Please mail your request and payment to: Consent Decree Library, U.S. DOJ—ENRD, P.O. Box 7611, Washington, DC 20044-7611.

Please enclose a check or money order for $13.75 (25 cents per page reproduction cost) payable to the United States Treasury.

Robert Brook,
Assistant Section Chief, Environmental Enforcement Section, Environment and Natural Resources Division.

[FR Doc. 2014-09709 Filed 4-28-14; 8:45 am]

BILLING CODE 4410-15-P